ENVIRONMENTAL PROTECTION AGENCY

[ER-FRL-9031-5]

Environmental Impact Statements; Notice of Availability

Responsible Agency: Office of Federal Activities, General Information (202) 564-7146 or http://www.epa.gov/nepa.

Weekly receipt of Environmental Impact Statements (EISs)

Filed 01/16/2017 Through 01/20/2017

Pursuant to 40 CFR 1506.9.

Notice

Section 309(a) of the Clean Air Act requires that EPA make public its comments on EISs issued by other Federal agencies. EPA's comment letters on EISs are available at: http://www.epa.gov/compliance/nepa/eisdata.html.

EIS No. 20170016, Draft, USFS, CA, Strategic Community Fuelbreak Improvement Project, Comment Period Ends: 03/13/2017, Contact: Jeff Kwasny 831-667-1126

EIS No. 20170017, Final, BR, CA, Long-Term Plan to Protect Adult Salmon in the Lower Klamath River, Review Period Ends: 02/26/2017, Contact: Julia Long 530-276-2044

EIS No. 20170018, Final, DOE, LA, Adoption—Golden Pass LNG Export Project, Review Period, Contact: Kyle Moorman 202-586-7970

The U.S. Department of Energy (DOE) has adopted the Federal Regulatory Commission's FEIS No. 20160180, filed 07/29/2016 with the U.S. EPA. DOE was a cooperating agency for this project. Therefore, recirculating the document is not necessary under Section 1506.3(c) of the CEQ Regulations.

EIS No. 20170019, Draft, USACE, CA, Malibu Creek Ecosystem Restoration, Comment Period Ends: 03/27/2017, Contact: Lawrence Smith 213-452-3846

Amended Notices

EIS No. 20160286, Draft, USACE, NJ, Rahway River Basin Flood Risk Management Plan, Comment Period Ends: 02/07/2017, Contact: Kimberly Rightler 917-790-8722

Revision to the FR Notice Published 12/09/2016: Extending Comment Period from 01/23/2017 to 02/07/2017; and Change Contact Phone No. to 917-790-8722.

EIS No. 20160296, Final, USACE, AL, Update of the Water Control Manual for the Apalachicola-Chattahoochee-Flint River Basin in Alabama, Florida, and Georgia and a Water Supply Storage Assessment, Review Period Ends: 02/01/2017, Contact: Lewis Sumner 251-694-3857

Revision to the FR Notice Published 12/16/2016; Extending Comment Period from 01/17/2017 to 02/01/2017.

Dated: January 23, 2017.
Dawn Roberts,
Management Analyst, NEPA Compliance Division, Office of Federal Activities.

[FR Doc. 2017-01887 Filed 1-26-17; 8:45 am]

BILLING CODE 6560-50-P